DEPARTMENT OF COMMERCE

International Trade Administration

[A-428-849]

Common Alloy Aluminum Sheet From Germany: Final Results of Antidumping Duty Administrative Review; 2022-2023

AGENCY: Enforcement and Compliance, International Trade Administration, Department of Commerce.

SUMMARY: The U.S. Department of Commerce (Commerce) determines that the exporter and producer subject to this administrative review made sales of subject merchandise at less than normal value during the period of review (POR), April 1, 2022, through March 31, 2023.

DATES: Applicable November 5, 2024.

FOR FURTHER INFORMATION CONTACT: Jeff Pedersen, Office IV, Enforcement and Compliance, International Trade Administration, U.S. Department of Commerce, 1401 Constitution Avenue NW, Washington, DC 20230; telephone: (202) 482-2769.

SUPPLEMENTARY INFORMATION:

Background

On April 25, 2024, Commerce published the Preliminary Results in the Federal Register.¹ On July 22, 2024, Commerce tolled certain deadlines in this administrative proceeding by seven days.² On August 26, 2024, Commerce extended the deadline for the final results of review until October 29, 2024.³

¹ See Common Alloy Aluminum Sheet from Germany: Preliminary Results and Partial Rescission of Antidumping Duty Administrative Review; 2022-2023, 89 FR 31724 (April 25, 2024) (Preliminary Results), and accompanying Preliminary Decision Memorandum (PDM).

² See Memorandum, “Tolling of Deadlines for Antidumping and Countervailing Duty Proceedings,” dated July 22, 2024.

³ See Memorandum, “Extension of Deadline for Final Results of Antidumping Duty Administrative Review; 2022-2023,” dated August 26, 2024.

For a complete description of the events that occurred since the Preliminary Results, see the Issues and Decision Memorandum.⁴ Commerce conducted this administrative review in accordance with section 751(a) of the Tariff Act of 1930, as amended (the Act).

⁴ See Memorandum, “Issues and Decision Memorandum for the Final Results of the 2022-2023 Administrative Review of the Antidumping Duty Order on Common Alloy Aluminum Sheet from Germany,” dated concurrently with, and hereby adopted by, this notice (Issues and Decision Memorandum).

Scope of the Order

The product covered by the Order is common alloy aluminum sheet (aluminum sheet) from Germany. For a full description of the scope of the Order, see the Issues and Decision Memorandum.

Analysis of Comments Received

All issues raised in the case and rebuttal briefs that interested parties filed in this administrative review are listed in the appendix to this notice and addressed in the Issues and Decision Memorandum. The Issues and Decision Memorandum is a public document and is on file electronically via Enforcement and Compliance's Antidumping and Countervailing Duty Centralized Electronic Services System (ACCESS). ACCESS is available to registered users at https://access.trade.gov. In addition, a complete version of the Issues and Decision Memorandum can be assessed directly at https://access.trade.gov/public/FRNoticesListLayout.aspx.

Changes Since the Preliminary Results of Review

We made no changes to the weighted-average dumping margin that we calculated for Speira GmbH (Speira) in the Preliminary Results.

Final Results of Review

Commerce determines that the following estimated weighted-average dumping margin exists for the period, April 1, 2022, through March 31, 2023:

Producer or exporter | Weighted-average dumping margin (percent)
Speira GmbH ⁵ | 6.44

Disclosure

Because Commerce has not modified its analysis or calculations from the Preliminary Results,⁶ there are no new calculations to disclose for these final results of review in accordance with 19 CFR 351.224(b).

⁵ Formerly known as Hydro Aluminium Rolled Products GmbH. See Common Alloy Aluminum Sheet from Germany: Preliminary Results of Antidumping Duty Administrative Review; 2020-2022, 88 FR 30087 (May 10, 2023, unchanged in Common Alloy Aluminum Sheet from Germany: Final Results of Antidumping Duty Administrative Review; 2020-2022, 88 FR 77556 (November 13, 2023).

⁶ See Preliminary Results.

Assessment Rates

Pursuant to section 751(a)(2)(C) of the Act and 19 CFR 351.212(b)(1), Commerce has determined in these final results of this review, and U.S. Customs and Border Protection (CBP) shall assess, antidumping duties on all appropriate entries of subject merchandise during the POR.

Pursuant to 19 CFR 351.212(b)(1), we calculated importer-specific ad valorem duty assessment rates based on the ratio of the total amount of dumping calculated for examined sales to each importer to the total entered value of those sales. Where an importer-specific assessment rate is zero or de minimis within the meaning of 19 CFR 351.106(c)(1), we will instruct CBP to liquidate the appropriate entries without regard to antidumping duties.

Pursuant to a refinement to Commerce's assessment practice, for subject merchandise that was entered into the United States, or withdrawn from warehouse, for consumption during the POR, that was produced or exported by Speira GmbH for which Speira GmbH did not report the sale in its U.S. sales database, we will instruct CBP to liquidate the entry of such merchandise at the all-others rate (i.e., 49.40 percent) ⁷ if there is no rate for the intermediate company(ies) involved in the transaction.⁸

⁷ See Common Alloy Aluminum Sheet from Germany: Final Determination of Sales at Less Than Fair Value, 86 FR 13318 (March 8, 2021).

⁸ For a full discussion of this practice, see Antidumping and Countervailing Duty Proceedings: Assessment of Antidumping Duties, 68 FR 23954 (May 6, 2003).

Commerce intends to issue assessment instructions to CBP no earlier than 35 days after the date of publication of this notice in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of this notice in the Federal Register, as provided by section 751(a)(2)(C) of the Act: (1) the cash deposit rate for Speira GmbH will be equal to the weighted-average dumping margin listed in the “Final Results of Review” section above; (2) for merchandise that was exported by a company that is not under review and the company has a company-specific cash deposit rate from a completed segment of this proceeding, the cash deposit rate will continue to be the company-specific cash deposit rate from a completed segment of the proceeding that is currently applicable to the company; (3) if the exporter of the subject merchandise was not covered by this review or a previously completed segment of this proceeding, but the producer of the subject merchandise was covered, then the cash deposit rate will be equal to the company-specific cash deposit rate from a completed segment of this proceeding that is currently applicable to the producer of the subject merchandise; and (4) if neither the exporter nor the producer of the subject merchandise was covered by this review or a previously completed segment of this proceeding, then the cash deposit rate will be 49.40 percent ad valorem, the all-others rate established in the less than fair value investigation. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the presumption that reimbursement of antidumping duties occurred and the subsequent assessment of doubled antidumping duties.

Administrative Protective Order (APO)

This notice serves as the only reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation that is subject to sanction.

Notification to Interested Parties

We are issuing and publishing these final results of review and this notice in accordance with sections 751(a)(1) and 777(i)(1) of the Act, and 19 CFR 351.213(h) and 351.221(b)(5).

Dated: October 29, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Discussion of the Issues

Comment 1: Whether to Use Quarterly Costs

Comment 2: Speira's Reported Cost Variances

V. Recommendation

[FR Doc. 2024-25614 Filed 11-4-24; 8:45 am]

BILLING CODE 3510-DS-P